COMMITTEE FOR PURCHASE FROM PEOPLE WHO ARE BLIND OR SEVERELY DISABLED

Procurement List Proposed Additions And Deletions

AGENCY: Committee for Purchase from People Who Are Blind or Severely Disabled.

ACTION: Proposed additions to and deletions from procurement list.

SUMMARY: The Committee is proposing to add to the Procurement List a product and services to be furnished by nonprofit agencies employing persons who are blind or have other severe disabilities, and to delete products and services previously furnished by such agencies.

Comments Must Be Received On Or Before: June 24, 2007.

ADDRESSES: Committee for Purchase From People Who Are Blind or Severely Disabled Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following product and services are proposed for addition to Procurement List for production by the nonprofit agencies listed:

Product

Hood, Anti-Flash, Firemen's.

NSN: 4210-01-493-4694—DAF-S-1 (20% KEVLAR/80% FR Rayon)—2 ply.

NPA: Dawn Enterprises, Inc., Blackfoot, ID.

Contracting Activity: Defense Supply Center Philadelphia, Philadelphia, PA.

Services

Service Type/Location: Custodial/Grounds Maintenance, Joseph P. Kinneary Federal Courthouse, 85 Marconi Boulevard, Columbus, OH.

NPA: Alpha Group of Delaware, Inc., Delaware, OH.

Contracting Activity: General Services Administration, Public Buildings Service, Region 5, Columbus, OH.

Service Type/Location: Custodial Services, Fort AP Hill, Camp Anderson, Bowling Green, VA.

NPA: Rappahannock Goodwill Industries, Inc., Fredericksburg, VA.

Contracting Activity: Army Contracting Agency, Aberdeen Proving Ground, MD.

Service Type/Location: Custodial Services, U.S. Department of Agriculture, Animal and Plant Health Inspection Service, 843 13th Court—Unit 7, Riviera Beach, FL.

NPA: Gulfstream Goodwill Industries, Inc., West Palm Beach, FL.

Contracting Activity: U.S. Department of Agriculture, Animal & Plant Health Inspection Service-MRP-BS ASD, Minneapolis, MN.

Service Type/Location: Custodial/Grounds Maintenance, Syracuse Military Entrance Processing Station (MEPS), 6001 E. Mallory Road, Building 710, Syracuse, NY.

NPA: Oswego Industries, Inc., Fulton, NY.

Contracting Activity: AFRC—Niagara, Niagara Falls, NY.

Service Type/Location: Document Destruction, Internal Revenue Service, 550 W. Fort Street, Boise, ID.

NPA: Western Idaho Training Company, Inc., Caldwell, ID.

Contracting Activity: Department of Treasury, Internal Revenue Service—CA, San Francisco, CA.

Service Type/Location: Janitorial/Landscaping Services. U.S. Department of Agriculture, Agricultural Research Service, 430 West Health Sciences Drive, Davis, CA.

NPA: PRIDE Industries, Inc., Roseville, CA.

Contracting Activity: U.S. Department of Agriculture, Agricultural Research Service—Pacific West Area, Albany, CA.

Service Type/Location: Postwide Administrative Support Services, Fort Bragg, Fort Bragg, NC.

NPA: Employment Source, Inc., Fayetteville, NC.

Contracting Activity: Fort Bragg Directorate of Contracting, Fort Bragg, NC.

Service Type/Location: Supply/Warehouse/HAZMAT Services, Meridian Naval Air Station, 224 Allen Rd, Meridian, MS.

NPA: South Texas Lighthouse for the Blind, Corpus Christi, TX.

Contracting Activity: Fleet and Industrial Supply Center, Jacksonville, FL.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

PCU, Level 7 Loft Jacket—Type 2

NSN: 8415-00-NSH-1647—Size LL.

NSN: 8415-00-NSH-1649—Size XLL.

NSN: 8415-00-NSH-1652—Size XXLL.

NSN: 8415-00-NSH-1654—Size XXXLL.

NPA: Southeastern Kentucky Rehabilitation Industries, Inc., Corbin, KY.

Contracting Activity: U.S. Army RDECOM Acquisition Center, Natick, MA.

Services

Service Type/Location: Grounds Maintenance, Hill Air Force Base, Hill Air Force Base, UT.

NPA: Pioneer Adult Rehabilitation Center Davis County School District, Clearfield, UT.

Contracting Activity: Hill Air Force Base, UT.

Service Type/Location: Janitorial/Custodial, Navy Exchange Command Corporate Accounting (CAC), Norfolk, VA.

NPA: Didlake, Inc., Manassas, VA.

Contracting Activity: Navy Exchange Service Command (NEXCOM), Virginia Beach, VA.

Service Type/Location: Janitorial/Custodial, Navy Exchange Command Uniform Support Center, Bldg 1545, Chesapeake, VA.

NPA: Portco, Inc., Portsmouth, VA

Contracting Activity: Navy Exchange Service Command (NEXCOM), Virginia Beach, VA.

Service Type/Location: Laundry Service National Naval Medical Center, Bethesda, MD.

NPA: Rappahannock Goodwill Industries, Inc., Fredericksburg, VA.

Contracting Activity: North Atlantic Contracting Office, Washington, DC.

Service Type/Location: Microfilming, Department of Treasury, Financial Management Services, Hyattsville, MD.

NPA: Didlake, Inc., Manassas, VA.

Contracting Activity: Department of the Treasury, DC.

Kimberly M. Zeich,
Director, Program Operations.

[FR Doc. E7-10145 Filed 5-24-07; 8:45 am]

BILLING CODE 6353-01-P